FEDERAL COMMUNICATIONS COMMISSION

47 CFR Part 54

[WC Docket No. 21-31; Report No. 3215; FR ID 237081]

Petition for Reconsideration of Action in Rulemaking Proceeding

AGENCY: Federal Communications Commission.

ACTION: Petition for Reconsideration.

SUMMARY: A Petition for Reconsideration (Petition) has been filed in the Commission's proceeding by Maurine Molak and Matthew Molak.

DATES: Oppositions to the Petition must be filed on or before August 27, 2024. Replies to oppositions to the Petition must be filed on or before September 6, 2024.

ADDRESSES: Federal Communications Commission, 45 L Street NE, Washington, DC 20554.

FOR FURTHER INFORMATION CONTACT: For additional information on this proceeding, contact Molly O'Conor of the Telecommunications Access Policy Division, Wireline Telecommunications Bureau, at Molly.OConor@fcc.gov or (202) 418-7400.

SUPPLEMENTARY INFORMATION: This is a summary of the Commission's document, Report No. 3215, released August 2, 2024. The full text of the Petition can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Addressing the Homework Gap through the E-Rate Program (WC Docket No. 21-31).

Number of Petitions Filed: 1.

Federal Communications Commission.
Katura Jackson,
Federal Register Liaison Officer.

[FR Doc. 2024-17837 Filed 8-9-24; 8:45 am]

BILLING CODE 6712-01-P